DEPARTMENT OF THE INTERIOR

National Park Service

Notice of Intent to Repatriate a Cultural Item in the Possession of the University of Northern Colorado, Greeley, CO

AGENCY: National Park Service, Interior.

ACTION: Notice.

Notice is hereby given under the Native American Graves Protection and Repatriation Act, 43 CFR 10.10 (a)(3), of the intent to repatriate a cultural item in the possession of the University of Northern Colorado, Greeley, CO, that meets the definition of “object of cultural patrimony” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The cultural item consists of a memorial pole, approximately 20 feet in height, bearing the Brown bear crest known as Kaats’Eeti Gaas’ (memorial pole of Kaats’). The crest depicts a man named Kaats’ who married a bear. The memorial pole was standing alongside the Xoots Hit (Brown Bear house) at Angoon, AK, in 1908. The memorial pole was removed from Angoon by unknown parties and, in 1914, was donated to the University of Northern Colorado by Andrew Thompson, United States Commissioner of Education in Alaska. The pole was adopted as the University of Northern Colorado’s “school mascot” that same year.

Consultation with representatives of the Central Council of Tlingit and Haida Indian Tribes indicates that at the time of its removal from Angoon, the memorial pole was considered the communal property of the Teikweidi of the Zooszidaa Kwaan, the Brown Bear clan of Angoon, AK, and could not have been alienated, appropriated, or conveyed by any individual.

Based on the above-mentioned information, officials of the University of Northern Colorado have determined that, pursuant to 43 CFR 10.2 (d)(4), this cultural item has ongoing historical, traditional, and cultural importance central to the tribe itself, and could not have been alienated, appropriated, or conveyed by any individual. Officials of the University of Northern Colorado also have determined that, pursuant to 43 CFR 10.2 (e), there is a relationship of shared group identity that can be reasonably traced between this cultural item and the Central Council of Tlingit and Haida Indians Tribes, representing the Teikweidi of the Zooszidaa Kwaan.

This notice has been sent to officials of the Central Council of Tlingit and Haida Indians Tribes. Representatives of any other Indian tribe that believes itself to be culturally affiliated with this cultural item should contact Ronald J. Lambden, general counsel, University of Northern Colorado, Carter Hall-room 4000, Campus Box 59, Greeley, CO 80639, telephone (970) 351-2399, before October 11, 2002. Repatriation of this cultural item to the Central Council of Tlingit and Haida Indian Tribes, on behalf of the Xooszidaa Kwaan Teikweidi, may begin after that date if no additional claimants come forward.

Dated: August 12, 2002.
Robert Stearns,
Manager, National NAGPRA Program.

[FR Doc. 02-23022 Filed 9-10-02; 8:45 am]

BILLING CODE 4310-70-S